DEPARTMENT OF HEALTH AND HUMAN SERVICES

Centers for Medicare & Medicaid Services

42 CFR Parts 482, 483, 484, and 485

[CMS-3178-CN]

RIN 0938-AO91

Medicare and Medicaid Programs; Emergency Preparedness Requirements for Medicare and Medicaid Participating Providers and Suppliers; Correction

AGENCY: Centers for Medicare & Medicaid Services (CMS), HHS.

ACTION: Final rule; correction.

SUMMARY: This document corrects typographical errors that appeared in the final rule published in the Federal Register on September 16, 2016 entitled “Medicare and Medicaid Programs; Emergency Preparedness Requirements for Medicare and Medicaid Participating Providers and Suppliers.”

DATES: This correcting document is effective November 15, 2016.

FOR FURTHER INFORMATION CONTACT: Ronisha Blackstone, (410) 786-6882.

SUPPLEMENTARY INFORMATION:

I. Background

In FR Doc. 2016-21404 which appeared in the September 16, 2016 Federal Register (81 FR 63860), entitled “Medicare and Medicaid Programs; Emergency Preparedness Requirements for Medicare and Medicaid Participating Providers and Suppliers”, there were a number of typographical errors that are identified and corrected in the Correction of Errors section below. The provisions in this correction document are effective as if they had been included in the document published September 16, 2016. Accordingly, the corrections are effective November 15, 2016.

II. Summary of Errors

On page 64030, we inadvertently omitted a paragraph number (that is, paragraph (xii)) in numbering the paragraphs in § 482.15(h)(1).

On page 64032, we inadvertently omitted a paragraph number (that is, paragraph (xii)) in numbering the paragraphs in § 483.73(g)(1).

On page 64034, we made a typographical error in numbering the paragraphs in § 484.22(d)(1).

On page 64037, we inadvertently omitted a paragraph number (that is, paragraph (xii)) in numbering the paragraphs in § 485.625(g)(1).

III. Waiver of Proposed Rulemaking

We ordinarily publish a notice of proposed rulemaking in the Federal Register to provide a period for public comment before the provisions of a rule take effect in accordance with section 553(b) of the Administrative Procedure Act (APA) (5 U.S.C. 553(b)). However, we can waive this notice and comment procedure if the Secretary finds, for good cause, that the notice and comment process is impracticable, unnecessary, or contrary to the public interest, and incorporates a statement of the finding and the reasons therefore in the notice.

Section 553(d) of the APA ordinarily requires a 30-day delay in effective date of final rules after the date of their publication in the Federal Register. This 30-day delay in effective date can be waived, however, if an agency finds for good cause that the delay is impracticable, unnecessary, or contrary to the public interest, and the agency incorporates a statement of the findings and its reasons in the rule issued.

We believe that this correcting document does not constitute a rule that would be subject to the APA notice and comment or delayed effective date requirements. This correcting document corrects typographical errors in the regulations text of the final rule but does not make substantive changes to the policies that were adopted in the final rule. As a result, this correcting document is intended to ensure that the regulations text in the final rule accurately reflect the policies adopted in that final rule.

In addition, even if this were a rule to which the notice and comment procedures and delayed effective date requirements applied, we find that there is good cause to waive such requirements. Undertaking further notice and comment procedures to incorporate the corrections in this document into the final rule or delaying the effective date would be contrary to the public interest because it is in the public's interest for providers and suppliers to receive the appropriate revisions in as timely a manner as possible, and to ensure that the Emergency Preparedness Requirements for Medicare and Medicaid Participating Providers and Suppliers final rule accurately reflects our policies. Furthermore, such procedures would be unnecessary, as we are not altering our policies, but rather, we are simply implementing correctly the policies that we previously proposed, received comment on, and subsequently finalized. This correcting document is intended solely to ensure that the Emergency Preparedness Requirements for Medicare and Medicaid Participating Providers and Suppliers final rule accurately reflects these revisions. Therefore, we believe we have good cause to waive the notice and comment and effective date requirements.

IV. Correction of Errors

In FR Doc. 2016-21404 of September 16, 2016 (81 FR 63860), make the following corrections:

§ 482.15 [Corrected]

1. On page 64030, first column, in § 482.15(h)(1), correctly redesignate paragraph (h)(1)(xiii) as paragraph (h)(1)(xii).

§ 483.73 [Corrected]

2. On page 64032, second column, in § 483.73(g)(1), correctly redesignate paragraph (g)(1)(xiii) as paragraph (g)(1)(xii).

§ 484.22 [Corrected]

3. On page 64034, second column, in § 484.22(d)(1), correct the paragraph designated “(ii) Demonstrate staff” is to read “(iv) Demonstrate staff”.

§ 485.625 [Corrected]

4. On page 64037, third column, in § 485.625(g)(1), correctly redesignate paragraph (g)(1)(xiii) as paragraph (g)(1)(xii).

Dated: November 9, 2016.
Madhura Valverde,
Executive Secretary to the Department, Department of Health and Human Services.

[FR Doc. 2016-27478 Filed 11-15-16; 8:45 am]

BILLING CODE 4120-01-P